DEPARTMENT OF HEALTH AND HUMAN SERVICES

National Institutes of Health

Center for Scientific Review; Amended Notice of Meeting

Notice is hereby given of a change in the meeting of the Center for Scientific Review Special emphasis Panel, October 27, 2008, 8 a.m. to October 28, 2008, 5 p.m., National Institutes of Health, 6701 Rockledge Drive, Bethesda, MD 20892 which was published in the Federal Register on September 25, 2008, 73 FR 55517-55519.

The meeting will be held November 12, 2008, 4 p.m. to November 14, 2008, 8 p.m. The meeting location remains the same. The meeting is closed to the public.

Dated: September 26, 2008.
Jennifer Spaeth,
Director, Office of Federal Advisory—Committee Policy.

[FR Doc. E8-23449 Filed 10-3-08; 8:45 am]

BILLING CODE 4140-01-M